DEPARTMENT OF COMMERCE

International Trade Administration

(A-357-802)

Light-Walled Welded Rectangular Carbon Steel Tubing from Argentina: Revocation of Antidumping Duty Order

AGENCY: Import Administration, International Trade Administration, Department of Commerce.

SUMMARY: On July 1, 2005, the Department of Commerce initiated and the International Trade Commission instituted the sunset review of the antidumping duty order on light-walled welded rectangular carbon steel tubing from Argentina. The International Trade Commission determined that revocation of this antidumping duty order would not be likely to lead to continuation or recurrence of material injury to an industry in the United States within a reasonably foreseeable time. Therefore, the Department of Commerce is revoking the antidumping duty order on light-walled welded rectangular carbon steel tubing from Argentina.

EFFECTIVE DATE: August 22, 2005.

FOR FURTHER INFORMATION CONTACT: Edythe Artman or Minoo Hatten, Office 5, AD/CVD Operations, Import Administration, International Trade Administration, U.S. Department of Commerce, 14th Street & Constitution Avenue, NW, Washington, DC 20230; telephone: (202) 482-3931 and (202) 482-1690, respectively.

SUPPLEMENTARY INFORMATION:

Scope of the Order

The product covered by this order is light-walled welded carbon steel pipes and tubes of rectangular (including square) cross-section having a wall thickness of less than 0.156 inch. This merchandise is classified under item number 7306.60.50.00 of the Harmonized Tariff Schedule of the United States. It was formerly classified under item number 610.4928 of the Tariff Schedules of the United States.

Background

On August 22, 2000, the Department of Commerce (the Department) published the continuation of the antidumping duty order on light-walled welded rectangular carbon steel tubing from Argentina resulting from the first sunset review of this order. See Continuation of Antidumping Duty Orders: Light-Walled Rectangular Welded Carbon Steel Pipe and Tube from Argentina and Taiwan; Circular Welded Non-Alloy Steel Pipe and Tube from Brazil, Korea, Mexico, and Taiwan; Welded Carbon Steel Pipe and Tube From India, Thailand, and Turkey; and Small Diameter Standard and Rectangular Steel Pipe and Tube from Taiwan, 65 FR 50955 (August 22, 2000). Pursuant to section 751(c) of the Tariff Act of 1930, as amended (the Act), and 19 CFR 351.218, the Department initiated and the International Trade Commission (ITC) instituted the second sunset review of this order on July 1, 2005. See Initiation of Five-year (“Sunset”) Reviews, 70 FR 38101 (July 1, 2005); Institution of Five-year Reviews concerning the Countervailing Duty Order on Welded Carbon Steel Pipe and Tube from Turkey and the Antidumping Duty Orders on Certain Pipe and Tube from Argentina, Brazil, India, Korea, Mexico, Taiwan, Thailand, and Turkey, 70 FR 38204 (July 1, 2005). As a result of its review, the Department found that revocation of the antidumping duty order would likely lead to continuation or recurrence of dumping and notified the ITC of the magnitude of the margin likely to prevail were the order to be revoked. See Light-Walled Welded Rectangular Carbon Steel Tubing from Argentina and Taiwan; Final Results of the Expedited Sunset Reviews of the Antidumping Duty Orders, 70 FR 67432 (November 7, 2005). On June 29, 2006, the ITC determined pursuant to section 751(c) of the Act that revocation of the antidumping duty order on light-walled welded rectangular carbon steel tubing from Argentina would not be likely to lead to continuation or recurrence of material injury to an industry in the United States within a reasonably foreseeable time. See Certain Pipe and Tube from Argentina, Brazil, India, Korea, Mexico, Taiwan, Thailand, and Turkey, 71 FR 42118 (July 25, 2006) and ITC Publication 3867 (July 2006), entitled Certain Pipe and Tube from Argentina, Brazil, India, Korea, Mexico, Taiwan, Thailand, and Turkey: Investigation Nos. 701-TA-253 and 731-TA-132, 252, 271, 409, 410, 532-534, and 536 (Second Review).

Determination to Revoke

As a result of the determination by the ITC that revocation of this antidumping duty order is not likely to lead to continuation or recurrence of material injury to an industry in the United States, the Department is revoking the order on light-walled welded rectangular carbon steel tubing from Argentina, pursuant to section 751(d) of the Act. Pursuant to section 751(d)(2) of the Act and 19 CFR 351.222(i)(2)(i), the effective date of revocation is August 22, 2005 (i.e., the fifth anniversary of the date of publication in the Federal Register of the notice of continuation of the antidumping duty order). The Department will notify U.S. Customs and Border Protection to discontinue suspension of liquidation and collection of cash deposits on entries of the subject merchandise entered or withdrawn from warehouse on or after August 22, 2005, the effective date of revocation of the antidumping duty order. The Department will complete any pending administrative reviews of this order and will conduct administrative reviews of subject merchandise entered prior to the effective date of revocation in response to appropriately filed requests for review.

This five-year sunset review and notice are in accordance with section 751(d)(2) and published pursuant to section 777(i)(1) of the Act.

Dated: August 1, 2006.
David M. Spooner,
Assistant Secretary for Import Administration.

[FR Doc. E6-12866 Filed 8-7-06; 8:45 am]

BILLING CODE 3510-DS-S